DEPARTMENT OF ENERGY

Federal Energy Regulatory Commission

[Docket Nos. CP07-414-000; CP07-415-000; CP07-416-000]

Golden Triangle Storage, Inc.; Notice of Request for Extension of Time

Take notice that on October 29, 2021, Golden Triangle Storage, Inc. (GTS) requested that the Federal Energy Regulatory Commission (Commission) grant an extension of time, until December 31, 2024, in order to development of Storage Caverns 1 and 2 up to their maximum certificated storage capacities in Jefferson and Orange Counties, Texas. In a December 31, 2007 Order Issuing Certificates the Commission Approved the construction and operation of the GTS project (2007 Order) ¹ The 2007 Order required Golden Triangle Storage, Inc to complete construction and make the facilities available for service within six years of the certificate order, that is, by December 13, 2013, pursuant to section 157.20(b) of the Commission's regulations.

¹ Golden Triangle Storage, Inc., 121 FERC ¶ 61,313 (2007).

In its October 29, 2021 request GTS had stated the 2007 Order recognized that after the caverns are placed in service, they will undergo additional solution mining to increase the working gas capacity of each cavern to its total certificated capacity. On October 15, 2013, GTS filed a request for an extension of time for an additional four years, until December 31, 2017, to complete the project.² On November 15, 2013, the Commission granted an extension of time until and including December 31, 2017, to complete construction of the facilities.³ Due to the capacity of the leaching facilities, GTS states that it must alternate the solution mining of each cavern, thus GTS has requested by its August 29, 2017 letter an additional four year extension of time to complete the leaching of their storage caverns to their maximum certificated capacities.⁴ The Commission, on November 1, 2017, granted an additional extension of time until and including December 31, 2021, to complete construction of the facilities.⁵

² Golden Triangle Storage, Inc., Docket Nos. CP07-414-000, et al., Request for Extension of Time filed October 15, 2013.

³ Golden Triangle Storage, Inc., Docket Nos. CP07-414-000, et al., (unpublished delegated letter order issued November 15, 2013, granting request for extension of time).

⁴ Golden Triangle Storage, Inc., Docket Nos. CP07-414-000, et al., Request for Extension of Time to Complete Construction of Jurisdictional Facilities filed August 29, 2017.

⁵ Golden Triangle Storage, Inc., Docket Nos. CP07-414-000, et al., (unpublished delegated letter order issued November 1, 2017, granting request for extension of time).

Now on October 29, 2021 GTS requested an additional four-year extension of time to require additional rewatering cycles to reach its maximum certificated storage capacity cycle and recover any capacity lost to gradual creep since the most recent prior rewatering.

This notice establishes a 15-calendar day intervention and comment period deadline. Any person wishing to comment on Golden Triangle Storage, Inc request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (18 CFR 157.10).⁶

⁶ Only motions to intervene from entities that were party to the underlying proceeding will be accepted. Algonquin Gas Transmission, LLC, 170 FERC ¶ 61,144, at P 39 (2020).

As a matter of practice, the Commission itself generally acts on requests for extensions of time to complete construction for Natural Gas Act facilities when such requests are contested before order issuance. For those extension requests that are contested,⁷ the Commission will aim to issue an order acting on the request within 45 days.⁸ The Commission will address all arguments relating to whether the applicant has demonstrated there is good cause to grant the extension.⁹ The Commission will not consider arguments that re-litigate the issuance of the certificate order, including whether the Commission properly found the project to be in the public convenience and necessity and whether the Commission's environmental analysis for the certificate complied with the National Environmental Policy Act.¹⁰ At the time a pipeline requests an extension of time, orders on certificates of public convenience and necessity are final and the Commission will not re-litigate their issuance.¹¹ The OEP Director, or his or her designee, will act on all of those extension requests that are uncontested.

⁷ Contested proceedings are those where an intervenor disputes any material issue of the filing. 18 CFR 385.2201(c)(1) (2019).

⁸ Algonquin Gas Transmission, LLC, 170 FERC ¶ 61,144, at P 40 (2020).

⁹ Id. at P 40.

¹⁰ Similarly, the Commission will not re-litigate the issuance of an NGA section 3 authorization, including whether a proposed project is not inconsistent with the public interest and whether the Commission's environmental analysis for the permit order complied with NEPA.

¹¹ Algonquin Gas Transmission, LLC, 170 FERC ¶ 61,144, at P 40 (2020).

In addition to publishing the full text of this document in the Federal Register, the Commission provides all interested persons an opportunity to view and/or print the contents of this document via the internet through the Commission's Home Page (http://www.ferc.gov) using the “eLibrary” link. Enter the docket number excluding the last three digits in the docket number field to access the document. At this time, the Commission has suspended access to Commission's Public Reference Room, due to the proclamation declaring a National Emergency concerning the Novel Coronavirus Disease (COVID-19), issued by the President on March 13, 2020. For assistance, contact FERC at FERCOnlineSupport@ferc.gov or call toll-free, (886) 208-3676 or TYY, (202) 502-8659.

The Commission strongly encourages electronic filings of comments, protests and interventions in lieu of paper using the “eFile” link at http://www.ferc.gov. Persons unable to file electronically may mail similar pleadings to the Federal Energy Regulatory Commission, 888 First Street NE, Washington, DC 20426. Hand delivered submissions in docketed proceedings should be delivered to Health and Human Services, 12225 Wilkins Avenue, Rockville, Maryland 20852.

Comment Date: 5:00 p.m. Eastern Time on November 19, 2021.

Dated: November 4, 2021.
Debbie-Anne A. Reese,
Deputy Secretary.

[FR Doc. 2021-24594 Filed 11-9-21; 8:45 am]

BILLING CODE 6717-01-P